DEPARTMENT OF DEFENSE

Office of the Secretary

Termination of the Department of Defense Web-Based TRICARE Assistance Program Demonstration

AGENCY: Department of Defense, DoD.

ACTION: Notice of demonstration termination.

SUMMARY: This notice is to advise interested parties of the termination of the Military Health System (MHS) demonstration project, under authority of Title 10, U.S. Code, Section 1092, entitled Web-Based TRICARE Assistance Program (TRIAP). The demonstration project uses existing health care support contracts (HCSC) to allow web-based behavioral health and related services including non-medical counseling and advice services to active duty service members (ADSM), their families and members and their dependents enrolled in TRICARE Reserve Select, and those eligible for the Transition Assistance Management Program (TAMP) who reside in the continental United States.

DATES: The demonstration will terminate on March 31, 2012.

ADDRESSES: TRICARE Management Activity (TMA), Health Plan Operations, 5111 Leesburg Pike, Suite 810, Falls Church, VA 22041.

FOR FURTHER INFORMATION CONTACT: For questions pertaining to this demonstration project, please contact Mr. Richard Hart at (703) 681-0047.

SUPPLEMENTARY INFORMATION: This demonstration was effective August 1, 2009, as referenced in the original Federal Register Notice, 74 FR 36676, July 24, 2009. The demonstration was extended to March 31, 2011, as referenced by Federal Register Notice, 75 FR 15693, March 30, 2010 and again extended to March 31, 2012 as referenced by Federal Register Notice, 76 FR 12073, March 4, 2011. The demonstration provides capability for short-term, problem solving counseling between eligible beneficiaries and licensed counselors utilizing video technology and software such as Skype or iChat. TRIAP services are available 24/7 and ADSMs, their spouses of any age, and other family members 18 years of age or older who reside in the United States are eligible to participate. Enrollees in TRICARE Reserve Select and the Transitional Assistance Management Program may also use the program. TRIAP is based on commercial employee assistance models and provides counseling in a virtual face-to-face environment. There is no diagnosis made, there are no limits to usage, and no notification about those seeking counseling are made to their primary care managers or others, unless required by the counselor's licensure (e.g., spouse abuse). Participant confidentiality is protected, as no medical record entry is made.

Monthly measures of Web-based behavioral health care access were collected and analyzed from each TRICARE region with the intent to inform Department leaders whether this type of program is a valid mechanism to improve access. Only 5109 calls were recorded in the two-year period from August 2009 through August 2011, with the majority (89%) occurring in the West region. Of these calls, 1888 calls were listed as either “initial” or “intake” with 3098 listed as “follow-up,” and 123 calls were not coded for contact type. Thirty-five percent (35%) of callers reported themselves as the sponsor, 62% reported as a dependent, and 3% did not report relationship. These results indicate the demonstration has not been utilized to the extent anticipated. At a cost of approximately $3 million annually across all three TRICARE regions, the demonstration's goal of improving beneficiary access to behavioral health care by incorporating Web-based video technology has not been realized and thus not viable from a financial perspective.

The termination of TRIAP in March 2012 will not cause a void in the availability of non-medical counseling services for Service members and their families. Military OneSource (MOS) offers a robust and popular Employee Assistance Program model of non-medical counseling service to provide Service members and their families in both the continental United States and overseas with an avenue for private, non-reportable discussion of personal life issues. Issues such as family difficulties and pressures, crisis intervention, anxiety, self-esteem, loneliness, and critical life decisions can be discussed on a one-to-one basis in the context of a confidential relationship with a professional counselor. Telephonic or face-to-face counseling is available 24/7 by contacting the MOS 1-800 call center who maintains a National Network of trained, experienced, and credentialed counselors. In addition, MOS is currently pursuing integration of video technology and software capability such as Skype or iChat to their non-medical counseling service by early 2012. By terminating the TRIAP Demonstration and integrating video technology into the MOS non-medical counseling service, the Department is responsibly managing costs, streamlining and eliminating duplication of services, and making it easier for Service members and their families to find assistance through one convenient toll free number.

The TRICARE Management Activity will work with MOS to develop a communication plan and ensure a seamless transition of Web-based video counseling from TRICARE to MOS.

Dated: February 9, 2012.
Patricia L. Toppings,
OSD Federal Register Liaison Officer, Department of Defense.

[FR Doc. 2012-3525 Filed 2-14-12; 8:45 am]

BILLING CODE 5001-06-P